DEPARTMENT OF HOMELAND SECURITY

[Docket ID FEMA-2014-0022]

Technical Mapping Advisory Council

AGENCY: Federal Emergency Management Agency, Department of Homeland Security.

ACTION: Request for applicants for appointment.

SUMMARY: The Federal Emergency Management Agency (FEMA) is requesting qualified individuals interested in serving on the Technical Mapping Advisory Council (TMAC) apply for appointment. The TMAC, as established in the Biggert-Waters Flood Insurance Reform Act of 2012, makes recommendations to the FEMA Administrator on how to improve, in a cost-effective manner, the accuracy, general quality, ease of use, distribution, and dissemination of Flood Insurance Rate Maps (FIRMs) and risk data; and to define performance metrics and milestones required to map flood risk areas effectively and efficiently in the United States. The appointments are for 3 years each, the terms of which start in spring/summer 2024. Applicants will be considered for any of the seven vacancies on the TMAC for which they are deemed to be qualified.

DATES: Applications will be accepted until 11:59 p.m. eastern standard time (EST) on Friday, April 19, 2024.

ADDRESSES: Membership applications should be submitted by one of the following methods:

• Email: FEMA-TMAC@fema.dhs.gov.

• Mail: FEMA, Federal Insurance and Mitigation Administration, Risk Management Directorate, Attn: Brian Koper, 400 C St. SW, Ste. 6NW-1412, Washington, DC 20472-3020.

FOR FURTHER INFORMATION CONTACT: Brian Koper, Designated Federal Officer for the TMAC, FEMA, Federal Insurance and Mitigation Administration, Risk Management Directorate, 400 C St. SW, Ste. 6NW-1412, Washington, DC 20472-3020, (202) 733-7859, FEMA-TMAC@fema.dhs.gov. The TMAC website is: http://www.fema.gov/TMAC.

SUPPLEMENTARY INFORMATION: The TMAC is an advisory committee established by the Biggert-Waters Flood Insurance Reform Act of 2012, 42 U.S.C. 4101a, in accordance with provisions of the Federal Advisory Committee Act (FACA), 5 U.S.C. ch. 10 (Pub. L. 117-286). The TMAC makes recommendations to FEMA on mapping-related issues and activities, including mapping standards and guidelines, performance metrics and milestones, map maintenance, interagency and intergovernmental coordination, map accuracy, and funding strategies. In addition, the TMAC submits an annual report to the FEMA Administrator that contains: (1) a description of the activities of the Council; (2) an evaluation of the status and performance of FIRMs and mapping activities to revise and update FIRMs; and (3) a summary of recommendations made by the Council to the FEMA Administrator. Members of the TMAC will be appointed based on their demonstrated knowledge and competence in areas such as surveying, cartography, remote sensing, geospatial information systems, or the technical aspects of preparing and using FIRMs. In order for FEMA to maximize the impact of the Council and the guidance it provides; the Council must be diverse with regard to professional and technical expertise. FEMA is committed to pursuing opportunities, consistent with applicable law, to compose a committee that reflects the diversity of the nation's people.

FEMA is requesting qualified individuals who are interested in serving on the TMAC to apply for an appointment. Applicants will be considered for appointment to seven vacancies on the TMAC, the terms of which start in spring/summer of 2024. Four of these seven vacancies, as described below, will be appointed to serve as a Special Government Employee (SGE) as defined in title 18 U.S.C. 202(a) to serve in their individual capacity, while the other three members of the TMAC will be appointed to serve as representative members. The candidates selected for appointment as a SGE will be subject to the Federal conflict of interest laws and standards of conduct regulations and required to file a New Entrant Confidential Disclosure Report (OGE 450). This form can be obtained by visiting the website of the Office of Government Ethics (http://www.oge.gov); please do not submit this form with your application. Qualified applicants will be considered for one or more of the following membership categories with vacancies:

(a) One member of a recognized professional engineering association or organization;

(b) One member of a recognized professional association or organization representing flood hazard determination firms;

(c) One representative of a recognized professional association or organization representing State geographic information;

(d) One representative of a State government agency that has entered into cooperating technical partnerships with the Administrator and has demonstrated the capability to produce FIRMs;

(e) One representative of a local government agency that has entered into cooperating technical partnerships with the Administrator and has demonstrated the capability to produce FIRMs;

(f) One member of a recognized risk management association or organization;

(g) One State mitigation officer.

Members of the TMAC serve terms of three years with an opportunity to serve additional terms in accordance with the TMAC By-Laws. There is no application form. However, applications must include the following information:

• Applicant's full name;

• Position(s) they would like to be considered for;

• Home and business phone numbers;

• Preferred email address;

• Home and business mailing addresses;

• Current position title and organization;

• Resume or curriculum vitae; and

• The membership category of interest (e.g., member of a recognized professional association or organization representing flood hazard determination firms).

The TMAC meets as often as needed to fulfill its mission, but not less than twice a year. Members may be reimbursed for travel and per diem incurred in the performance of their duties as members of the TMAC. All travel for TMAC business must be approved in advance by the Designated Federal Officer.

The Department of Homeland Security (DHS) does not discriminate in employment on the basis of race, color, religion, sex, national origin, political affiliation, sexual orientation, gender identity, marital status, disability and genetic information, age, membership in an employee organization, or other non-merit factor. DHS strives to achieve a widely diverse candidate pool for all its recruitment actions. Current DHS and FEMA employees will not be considered for membership. Federally registered lobbyists will not be considered.

Nicholas A. Shufro,
Deputy Assistant Administrator, Risk Analysis, Planning & Information Directorate, Resilience, Federal Emergency Management Agency.

[FR Doc. 2024-03737 Filed 2-22-24; 8:45 am]

BILLING CODE 9110-12-P